DEPARTMENT OF TRANSPORTATION

Federal Motor Carrier Safety Administration

[Docket No. FMCSA-2017-0313]

60-Day Notice of Proposed Information Collection: Driver Commuting Practices Survey

AGENCY: Federal Motor Carrier Safety Administration (FMCSA), DOT.

ACTION: Notice and request for comments.

SUMMARY: FMCSA is seeking approval from the Office of Management and Budget (OMB) for the information collection described below. In accordance with the Paperwork Reduction Act, FMCSA is requesting comment from all interested parties on the proposed collection of information. The purpose of this notice is to allow for 60 days of public comment.

FMCSA proposes a survey to inquire about driver commuting practices to fulfill Section 5515 of the Fixing America's Surface Transportation Act, 2015 (FAST Act). Section 5515 of the FAST Act requires FMCSA to conduct a study on the safety effects of motor carrier operator commutes exceeding 150 minutes. The administrator is then required to submit a report to Congress containing the findings of the study.

The survey proposed within this information collection request is seeking to gather information on the prevalence of excessive (greater than 150 minutes) driver commuting in the commercial motor vehicle (CMV) industry, including the number and percentage of drivers who commute; the distances traveled, time zones crossed, time spent commuting, and methods of transportation used; research on the impact of excessive commuting on safety and CMV driver fatigue; and the commuting practices of CMV drivers and policies of motor carriers.

DATES: Comments must be received on or before January 26, 2018.

ADDRESSES: You may submit comments bearing the Federal Docket Management System (FDMS) Docket ID FMCSA-2017-0313 using any of the following methods:

• Federal eRulemaking Portal: http://www.regulations.gov. Follow the online instructions for submitting comments.

• Fax: 1-202-493-2251.

• Mail: Docket Operations, U.S. Department of Transportation, 1200 New Jersey Ave. SE., West Building, Ground Floor, Room W12-140, Washington, DC 20590-0001.

• Hand Delivery or Courier: 1200 New Jersey Avenue SE., West Building, Ground Floor, Room W12-140, Washington, DC 20590 between 9 a.m. and 5 p.m., Monday through Friday, except Federal holidays.

Instructions: All submissions must include the Agency name and the docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Nicole Michel, Research Division, Federal Motor Carrier Safety Administration, 1200 New Jersey Avenue SE., Washington, DC 20590-0001, by email at nicole.michel@dot.gov, or by telephone at (202) 366-4354. If you have questions on viewing or submitting material to the docket, contact Docket Services, telephone (202) 366-9826.

SUPPLEMENTARY INFORMATION:

Title: Impact of Driver Commuting on Safety

OMB Control Number: 2126-00XX.

Type of Request: New information collection.

Respondents: A random sample of licensed CMV operators, to include both freight operators and those with a passenger bus endorsement.

Estimated Number of Respondents: 500 CMV drivers (250 each of freight drivers and passenger bus drivers).

Estimated Time per Response: The estimated average time for a driver to complete the survey is 20 minutes.

Expiration Date: N/A. This is a new information collection request (ICR).

Frequency of Response: This survey requires a one-time response per CMV operator, with an estimated total of 500 respondents (250 each of freight drivers and passenger bus drivers).

Estimated Total Annual Burden: The estimated total annual burden is 166.7 hours, or $3,945.79 (based on an average labor cost of $23.67 per hour for each responding driver).

I. Background

On December 4, 2015, the FAST Act was signed into law (Pub. L. 114-94,129 Stat. 1312, 1557 (Dec. 4, 2015)). Section 5515 of the FAST Act directs the FMCSA Administrator to “conduct a study on the safety effects of motor carrier operator commutes exceeding 150 minutes” (subsection (a)). The Act further specifies that a report containing the findings of this study should be submitted to Congress no later than 18 months after the date of enactment of the Act (subsection (b)). FMCSA must complete this information collection to the meet the specified congressional requirements set forth in the FAST Act.

Additionally, during the 114th Congress (2015-2016), legislation entitled the Truck Safety Act was introduced. This legislation provided greater context to inform study of this area (S. 1739, 114th Cong. § 7) by proposing the following:

SECTION. 7. STUDY ON COMMERCIAL MOTOR VEHICLE DRIVER COMMUTING.

(a) EFFECTS OF EXCESSIVE COMMUTING.—The Administrator of the FMCSA shall conduct a study of the effects of excessive commuting on safety and commercial motor vehicle driver fatigue.

(b) STUDY.—In conducting the study, the Administrator shall consider—

(1) the prevalence of excessive driver commuting in the commercial motor vehicle industry, including the number and percentage of drivers who commute;

(2) the distances traveled, time zones crossed, time spent commuting, and methods of transportation used;

(3) research on the impact of excessive commuting on safety and commercial motor vehicle driver fatigue;

(4) the commuting practices of commercial motor vehicle drivers and policies of motor carriers;

(5) the FMCSA regulations, policies, and guidance regarding excessive driver commuting; and

(6) any other matters the Administrator considers appropriate.

In the past two decades, as the number of workers has increased and the distance to affordable housing has also increased in most metropolitan areas, commuting times have increased in the United States. According to the 2015 Urban Mobility Scorecard,¹ travel delays due to traffic congestion caused drivers to waste more than 3 billion gallons of fuel and kept travelers stuck in their cars for nearly 7 billion extra hours (42 hours per rush-hour commuter).

¹ Schrank, David; Eisele, Bill; Lomax, Tim; and Bak, Jim. (2015.) 2015 Urban Mobility Scorecard. Texas A&M Transportation Institute and Inrix, Inc., available at: http://static.tti.tamu.edu/tti.tamu.edu/documents/mobility-scorecard-2015.pdf.

Long commuting times can adversely affect commercial motor vehicle (CMV) drivers in multiple ways, for example:

• Compromising off-duty time. Long commuting times can reduce a driver's available off-duty time for sleep and personal activities. This can lead to excessive fatigue while on duty, creating safety concerns for both the CMV driver and other drivers on the roads.

• Impacting driver health. A recent study was conducted that monitored 4,297 adults from 12 metropolitan Texas counties. In this region, 90 percent of people commute to work. The study found that the drivers who have long commuting times were more likely to have poor cardiovascular health and be less physically fit.² This study showed that people who commute long distances to work weigh more, are less physically active, and have higher blood pressure.

² Hoehner, Christine; Barlow, Carolyn; Allen, Peg; and Schootman, Mario. (2012.) Commuting Distance, Cardiorespiratory Fitness, and Metabolic Risk. American Journal of Preventive Medicine 42(6): 571-578.

The objective of the survey proposed in this ICR is to learn more about the following CMV driver characteristics:

• Work history;

• Commuting time, transportation mode, and recording of that time;

• Driving schedules;

• Rests and breaks;

• Miles driven annually; and

• Demographics.

II. Data Collection Plan

The information collection is a one-time, Web-based collection, including surveys of current and past drivers of freight and passenger vehicles. The survey will be entirely online. There will be no paper survey. The general survey approach and design is as follows:

1. FMCSA will provide a random sample of 12,000 drivers based on recent Motor Carrier Management Information System (MCMIS) data, augmented with the drivers' last known mailing address, obtained by cross-referencing Commercial Driver's License Information System (CDLIS) data with the licensing States' CDL driver histories. The samples will be divided into one list for drivers who operate (or previously operated) freight vehicles and a second list for those who drive (or previously drove) passenger-carrying vehicles.

2. Using a mail-Web methodology, the driver commute survey will be sent out by the research team, on behalf of FMCSA, to the 12,000 selected drivers identified in step 1. These drivers will be solicited to complete an online survey, using a recruitment letter (with a $2 pre-incentive), a reminder postcard, and a second follow-up letter. The letter will inform the drivers that they will receive a check for $10 upon completion of the survey, which is expected to average 20 minutes to complete. Our initial expectation is that 4.17 percent of the 12,000 (500) will complete the survey on the Web. The burden analysis is based on this figure of 500 responses.

III. Paperwork Reduction Act

The Paperwork Reduction Act of 1995 (the PRA) (44 U.S.C. 3501-3520) prohibits agencies from conducting information collection (IC) activities until they analyze the need for the collection of information and how the collected data will be managed. Agencies must also analyze whether technology could be used to reduce the burden imposed on those providing the data. The Agency must estimate the time burden required to respond to the IC requirements, such as the time required to complete a particular form. The Agency submits its IC analysis and burden estimate to OMB as a formal ICR; the Agency cannot conduct the information collection until OMB approves the ICR.

V. Request for Public Comments

FMCSA asks for comment on the IC requirements of this study. Comments can be submitted to the docket as outlined under ADDRESSES at the beginning of this notice. You are asked to comment on any aspect of this information collection, including:

1. Whether the proposed collection is necessary for the performance of FMCSA's functions.

2. The accuracy of the estimated burden.

3. Ways for FMCSA to enhance the quality, usefulness, and clarity of the collected information.

4. Ways that the burden could be minimized without reducing the quality of the collected information.

Issued under the authority delegated in 49 CFR 1.87 on: November 17, 2017.
G. Kelly Regal,
Associate Administrator, Office of Research and Information Technology.

[FR Doc. 2017-25526 Filed 11-24-17; 8:45 am]

BILLING CODE 4910-EX-P